DEPARTMENT OF ENERGY

10 CFR Part 590

[DOE-HQ-2025-0010]

RIN 1901-AB67

Amending the Administrative Procedures With Respect to the Import and Export of Natural Gas

AGENCY: Office of Fossil Energy, Department of Energy.

ACTION: Direct final rule; delay of effective date; response to comments.

SUMMARY: The Department of Energy (DOE) is publishing this document to respond to comments received on the May 16, 2025, direct final rule. As a result, DOE delays the effective date of the direct final rule on the administrative procedures regarding the Office of Fossil Energy's (FE) filing requirements for the import and export of natural gas.

DATES: As of July 14, 2025, the effective date of the direct final rule published May 16, 2025, at 90 FR 20758, is delayed until August 13, 2025.

ADDRESSES: The docket for this rule, which includes the Federal Register notices, comments, and other supporting documents and materials, is available for review at www.regulations.gov. All documents in the docket are listed in the www.regulations.gov index. However, not all documents listed in the index may be publicly available, such as information that is exempt from public disclosure. The docket web page can be found at www.regulations.gov/docket/DOE-HQ-2025-0010. The docket web page contains instructions on how to access all documents, including public comments, in the docket, as well as a summary.

FOR FURTHER INFORMATION CONTACT: Mr. Jeffrey Novak, U.S. Department of Energy, Office of the General Counsel, Acting General Counsel, 1000 Independence Avenue SW, Washington, DC 20585-0121; (202) 586-5281 or DOEGeneralCounsel@hq.doe.gov.

SUPPLEMENTARY INFORMATION:

I. May 2025 Direct Final Rule

On May 16, 205, DOE published a direct final rule amending part 590 regulations to remove antiquated references and update submission processes to reduce the burden on the public. 90 FR 20758.

II. Response to Comments

DOE received three comments in response to the direct final rule published on May 16, 2025. 90 FR 20758 (“May 2025 DFR”).

Table II.1—List of Commenters From the May 2025 DFR
Commenter | Reference in this rule | Comment No. in the docket | Commenter type
Center for Biological Diversity | CBD | 3 | Conservation Organization.
Bridget Dooling | Dooling | 4 | Individual.
Meghan Maury | Maury | 2 | Individual.

All three commenters had procedural objections to DOE's use of a direct final rule. For example, Dooling stated that the May 2025 DFR did not satisfy the good cause exemption from notice and comment rulemaking under the Administrative Procedure Act (“APA”). (Dooling, No. 4 at p. 4). CBD also stated that DOE should have engaged in a full notice-and-comment rulemaking process. (CBD, No. 3 at p. 1).

In response, DOE notes that the APA requires that agencies provide all interested persons with fair notice and an opportunity to comment on the rulemaking. See 5 U.S.C. 553(b) & (c). The May 2025 DFR provided the public with fair notice of DOE's changes to its own administrative procedures regarding filing requirements for the import and export of natural gas. See 90 FR 20759 (discussing specific administrative changes to the filing requirements). DOE also requested comments on the May 2025 DFR, and stated, if the Department received significant adverse comments, the Department would withdraw the rule or issue a new final rule that responds to such comments. 90 FR 20758. Thus, DOE has provided interested persons with fair notice and an opportunity to comment as required by the APA. So, the lack of discussion of a good cause exemption under 5 U.S.C. 553(b)(B) in the DFR is irrelevant as the notice and comment procedures under 5 U.S.C. 553(b) and (c) have been observed before this rule takes effect. Commenters cannot argue they were denied fair notice and an opportunity to comment solely based on how the notice was labeled. See Little Sisters of the Poor Saints Peter & Paul Home v. Pennsylvania, 140 S. Ct. 2367, 2384 (2020) (holding that “[f]ormal labels aside, the [interim final rules] contained all of the elements of a notice of proposed rulemaking as required by the APA”).

III. Conclusion

For the reasons discussed in the preceding sections of this document, DOE is not withdrawing the May 2025 DFR, which finalizes amendments to its administrative procedures to update and streamline the general requirements for filing documents with FE for the import and export of natural gas.

DOE also notes, to the extent that 5 U.S.C. 553 applies to the delay of effective date, it is exempt from notice and comment because it constitutes a rule of procedure under 5 U.S.C. 553(b)(A) and for which no notice or hearing is required by statute. Additionally, this action is not a “substantive rule” for which a 30-day delay in effective date is required under 5 U.S.C. 553(d).

Signing Authority

This document of the Department of Energy was signed on July 09, 2025, by Chris Wright, Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on July 10, 2025.
Treena V. Garrett,
Federal Register Liaison Officer, U.S. Department of Energy.

[FR Doc. 2025-13193 Filed 7-11-25; 8:45 am]

BILLING CODE 6450-01-P